DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Tuesday, June 16, 2015, from 8:00 a.m. to 4:50 p.m.

ADDRESSES: Renaissance Portsmouth-Norfolk Waterfront Hotel, 425 Water Street, Portsmouth, Virginia 23704.

FOR FURTHER INFORMATION CONTACT: Dr. Anne Andrews, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the June 16, 2015 meeting is to review research and development projects requesting Strategic Environmental Research and Development Program funds as required by the SERDP Statute, U.S. Code ‐ Title 10, Subtitle A, Part IV, Chapter 172, § 2904. The full agenda follows:

8:00 a.m. Convene/Opening Remarks, Approval of October 2014 Minutes; Dr. Joseph Hughes, Chair.

8:05 a.m. Program Update; Dr. Anne Andrews, Acting Executive Director.

8:20 a.m. Munitions Response Overview; Dr. Herb Nelson, Munitions Response, Program Manager.

8:30 a.m. 15 MR01-039 (MR-2545): Sediment Volume Search Sonar Development, (FY15 New Start); Mr. Daniel Brown, Applied Research Laboratory, The Pennsylvania State University, State College, PA.

9:15 a.m. Break

9:30 a.m. Resource Conservation and Climate Change Overview; Dr. John Hall, Resource Conservation and Climate Change, Program Manager.

9:50 a.m. RC-2245: Defense Coastal/Estuarine Research Program (DCERP) Overview, (FY16 Continuing); Dr. Patricia Cunningham, RTI International, Research Triangle Park, NC.

10:05 a.m. RC-2245: CB-4 Title: Predicting Sustainability of Coastal Military Training Environments; Dr. Jesse McNinch, ERDC Coastal Hydraulics Lab, Duck, NC.

10:35 a.m. RC-2245: CC-1 Title: Development of Uniform Historical and Projected Climate to Support Integrated Coastal Ecosystem Research; Dr. Ryan Boyles, North Carolina State University, Raleigh, NC.

11:20 a.m. RC-2245: Development of Empirical Carbon Budget; Dr. Craig Tobias, University of Connecticut, Groton, CT.

12:05 p.m. Lunch

1:05 p.m. RC-2245: Translating Science into Practice; Dr. Mike Piehler, University of North Carolina, Morehead City, NC.

1:35 p.m. RC-2245: TAC Comments and Project Management; Dr. Patricia Cunningham, RTI International, Research Triangle Park, NC.

2:20 p.m. FY16 Statements of Need—Summaries in Preparation of New Start Projects to be Presented in September and October; SERDP Program Managers.

3:25 p.m. Break

3:40 p.m. FY17 SON—Board Input; All.

4:05 p.m. Scenarios for Sea Level Rise and Extreme Water Levels: Building on SERDP Research; Dr. John Hall, Resource Conservation and Climate Change, Program Manager.

4:50 p.m. Public Discussion/Adjourn

Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/. Time is allotted at the close of the meeting day for the public to make comments. Oral comments are limited to 5 minutes per person.

Dated: May 14, 2015.
Aaron Siegel,
Alternate OSD Federal Register Liaison Officer, Department of Defense.

[FR Doc. 2015-12098 Filed 5-18-15; 8:45 am]

BILLING CODE 5001-06-P